DEPARTMENT OF COMMERCE

National Oceanic and Atomospheric Administration

50 CFR Part 660

[Docket No. 021209300-3048-02; I.D. 112502C]

RIN 0648-AQ18

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Final rule; correction.

SUMMARY: This document contains a correction to the final rule published on March 7, 2003 for the Pacific Coast groundfish fishery.

DATES: Effective May 6, 2003.

FOR FURTHER INFORMATION CONTACT: Yvonne deReynier (NMFS, Northwest Region), 206-526-6140.

SUPPLEMENTARY INFORMATION: The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003, and the final rule for March 1 - December 31, 2003 was published in the Federal Register on March 7, 2003 (68 FR 11182).

The final rule contained an amendatory instruction revising codified Federal regulations at 50 CFR 660.304 that was incorrectly revised from the amendatory instructions provided in the proposed rule. These incorrect instructions removed boundary coordinates for the Columbia, Eureka, Monterey, and Conception management areas from the Code of Federal Regulations. This correction reinstates those boundary coordinates.

Authority: 16 U.S.C. et seq.

Dated: April 29, 2003.
John Oliver
Deputy Assistant Administrator for Operations, National Marine Fisheries Service.

Correction

Part 660 is corrected by revising § 660.304 to read as follows:

§ 660.304 Management areas, including conservation areas, and commonly used geographic coordinates.

(a) Management areas.

(1) Vancouver. (i) The northeastern boundary is that part of a line connecting the light on Tatoosh Island, WA, with the light on Bonilla Point on Vancouver Island, British Columbia (at 48°35′75″ N. lat., 124°43′00” W. long.) south of the International Boundary between the U.S. and Canada (at 48° 29′37.19” N. lat., 124°43′33.19” W. long.), and north of the point where that line intersects with the boundary of the U.S. territorial sea.

(ii) The northern and northwestern boundary is a line connecting the following coordinates in the order listed, which is the provisional international boundary of the EEZ as shown on NOAA/NOS Charts #18480 and #18007:

Point | N. Lat. | W. Long.
1 | 48°29′37.19″ | 124°43′33.19″
2 | 48°30′11″ | 124°47′13″
3 | 48°30′22″ | 124°50′21″
4 | 48°30′14″ | 124°54′52″
5 | 48°29′57″ | 124°59′14″
6 | 48°29′44″ | 125°00′06″
7 | 48°28′09″ | 125°05′47″
8 | 48°27′10″ | 125°08′25″
9 | 48°26′47″ | 125°09′12″
10 | 48°20′16″ | 125°22′48″
11 | 48°18′22″ | 125°29′58″
12 | 48°11′05″ | 125°53′48″
13 | 47°49′15″ | 126°40′57″
14 | 47°36′47″ | 127°11′58″
15 | 47°22′00″ | 127°41′23″
16 | 46°42′05″ | 128°51′56″
17 | 46°31′47″ | 129°07′39″

(iii) The southern limit is 47°30′ N. lat.

(2) Columbia. (i) The northern limit is 47°30′ N. lat.

(ii) The southern limit is 43°00′ N. lat.

(3) Eureka. (i) The northern limit is 43°00′ N. lat.

(ii) The southern limit is 40°30′ N. lat.

(4) Monterey. (i) The northern limit is 40°30′ N. lat.

(ii) The southern limit is 36°00 N. lat.

(5) Conception. (i) The northern limit is 36°00′ N. lat.

(ii) The southern limit is the U.S.-Mexico International Boundary, which is a line connecting the following coordinates in the order listed:

Point | N. Lat. | W. Long.
1 | 32°35′22″ | 117°27′49″
2 | 32°37′37.″ | 117°49′31″
3 | 31°07′58″ | 118°36′18″
4 | 30°32′31″ | 121°51′58″

(b) Commonly used geographic coordinates.

(1) Cape Falcon, OR—45°46′ N. lat.

(2) Cape Lookout, OR—45°20′15” N. lat.

(3) Cape Blanco, OR—42°50′ N. lat.

(4) Cape Mendocino, CA—40°30′ N. lat.

(5) North/South management line—40°10′ N. lat.

(6) Point Arena, CA—38°57′30” N. lat.

(7) Point Conception, CA—34°27′ N. lat.

(c) Cowcod Conservation Areas (CCAs). (1) The Western CCA is an area south of Point Conception that is bound by straight lines connecting all of the following points in the order listed:

33°50′ N. lat., 119°30′ W. long.;

33°50′ N. lat., 118°50′ W. long.;

32°20′ N. lat., 118°50′ W. long.;

32°20′ N. lat., 119°37′ W. long.;

33°00′ N. lat., 119°37′ W. long.;

33°00′ N. lat., 119°53′ W. long.;

33°33′ N. lat., 119°53′ W. long.;

33°33′ N. lat., 119°30′ W. long.;

and connecting back to 33°50′ N. lat., 119°30′ W. long.

(2) The Eastern CCA is a smaller area west of San Diego that is bound by straight lines connecting all of the following points in the order listed:

32°42′ N. lat., 118°02 W. long.;

32°42′ N. lat., 117°50 W. long.;

32°36′42″ N. lat., 117°50 W. long.;

32°30′ N. lat., 117°53′30” W. long.;

32°30′ N. lat., 118°02 W. long.;

and connecting back to 32°42′ N. lat., 118°02′ W. long.

(d) Yelloweye Rockfish Conservation Area (YRCA). The YRCA is an C-shaped area off the northern Washington coast that is bound by straight lines connecting all of the following points in the order listed:

48°18′ N. lat.; 125°18′ W. long.;

48°18′ N. lat.; 124°59′ W. long.;

48°11′ N. lat.; 124°59′ W. long.;

48°11′ N. lat.; 125°11′ W. long.;

48°04′ N. lat.; 125°11′ W. long.;

48°04′ N. lat.; 124°59′ W. long.;

48°00′ N. lat.; 124°59′ W. long.;

48°00′ N. lat.; 125°18′ W. long.;

and connecting back to 48°18′ N. lat.; 125°18′ W. long.

(e) International boundaries. (1) Any person fishing subject to this subpart is bound by the international boundaries described in this section, notwithstanding any dispute or negotiation between the United States and any neighboring country regarding their respective jurisdictions, until such time as new boundaries are established or recognized by the United States.

(2) The inner boundary of the fishery management area is a line coterminous with the seaward boundaries of the States of Washington, Oregon, and California (the “3-mile limit”).

(3) The outer boundary of the fishery management area is a line drawn in such a manner that each point on it is 200 nm from the baseline from which the territorial sea is measured, or is a provisional or permanent international boundary between the United States and Canada or Mexico.

[FR Doc. 03-10935 Filed 5-5-03; 8:45 am]

BILLING CODE 3510-22-S